DEPARTMENT OF TRANSPORTATION

Coast Guard

33 CFR Part 117

[CGD01-02-117]

Drawbridge Operation Regulations: Hackensack River, NJ

AGENCY: Coast Guard, DOT.

ACTION: Notice of temporary deviation from regulations.

SUMMARY: The Commander, First Coast Guard District, has issued a temporary deviation from the drawbridge operation regulations for the NJTRO HX Bridge, mile 7.7, across the Hackensack River at Secaucus, New Jersey.

This temporary deviation will allow the bridge to remain closed to navigation for four weekends beginning October 19, 2002, and ending on November 10, 2002. This temporary deviation is necessary to facilitate maintenance at the bridge.

DATES: This deviation is effective from October 19, 2002, through November 10, 2002.

FOR FURTHER INFORMATION CONTACT: Joe Arca, Project Officer, First Coast Guard District, at (212) 668-7165.

SUPPLEMENTARY INFORMATION: The bridge owner, New Jersey Transit (NJTRO), requested a temporary deviation from the drawbridge operating regulations to facilitate necessary maintenance, replacement of the timber system, at the bridge. The installation of the timber system require the bridge to remain in the closed position.

Under this temporary deviation the NJTRO HX Bridge may remain closed to vessel traffic for four weekends; October 19 & 20, October 26 & 27, November 2 & 3, and November 9 & 10, 2002. The closures will be in effect from 6 a.m. on Saturday through 6 p.m. on Sunday for each of the above weekends. The bridge shall open in emergency situations in accordance with the provisions listed in 33 CFR 117.31(b).

This deviation from the operating regulations is authorized under 33 CFR 117.35, and will be performed with all due speed in order to return the bridge to normal operation as soon as possible.

Dated: October 18, 2002.
V.S. Crea,
Rear Admiral, U.S. Coast Guard, Commander, First Coast Guard District.

[FR Doc. 02-27529 Filed 10-29-02; 8:45 am]

BILLING CODE 4910-15-U